DEPARTMENT OF LABOR

Employment and Training Administration

[TA-W-62,067]

Crosible, Inc., U.S. Division, Including Workers Whose Wages Are Reported Under the Federal Employer Identification Number for Madison Filter Inc., Now Known as Clear Edge Filtration, Moravia, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on September 12, 2007, applicable to workers and former workers of Crosible, Inc., U.S. Division, Moravia, New York. The notice was published in the Federal Register on September 27, 2007 (72 FR 54939). The certification was amended on February 9, 2009 to reflect the new name of the subject firm, Clear Edge Filtration. The notice was published in the Federal Register on February 23, 2009 (74 FR 8110-8111).

At the request of the State agency, the Department reviewed the certification for workers of the subject firm. Workers produce filters, made of fabric, used for air and water filtration systems.

New information provided shows that some of the workers at the subject firm have their Unemployment Insurance wages reported under the tax account for Madison Filter Inc.

The intent of the Department's certification is to include all workers of Crosible, Inc., who were adversely affected by a shift of filter production to Mexico. Consequently, the Department is again amending the certification to properly reflect this matter.

The amended notice applicable to TA-W-62,067 is hereby issued as follows:

“All workers of Crosible, Inc., U.S. Division, including workers whose wages are reported under the Federal Employer Identification Number for Madison Filter Inc., now known as Clear Edge Filtration, Moravia, New York, who became totally or partially separated from employment on or after August 27, 2006, through September 12, 2009, are eligible to apply for adjustment assistance under Section 223 of the Trade Act of 1974, and are also eligible to apply for alternative trade adjustment assistance under Section 246 of the Trade Act of 1974.”

Signed at Washington, DC, this 20th day of April 2009.
Linda G. Poole,
Certifying Officer, Division of Trade Adjustment Assistance.

[FR Doc. E9-9935 Filed 4-29-09; 8:45 am]

BILLING CODE 4510-FN-P